DEPARTMENT OF AGRICULTURE

Food and Nutrition Service

7 CFR Parts 210, 220, 225, and 292

[FNS-2023-0029]

RIN 0584-AE96

Establishing the Summer EBT Program and Rural Non-Congregate Option in the Summer Meal Programs

AGENCY: Food and Nutrition Service (FNS), Department of Agriculture (USDA).

ACTION: Interim final rule, extension of comment period.

SUMMARY: The USDA Food and Nutrition Service is extending for 120 days the public comment period on the interim final rule, “Establishing the Summer EBT Program and Rural Non-Congregate Option in the Summer Meal Programs”, which published in the Federal Register on December 29, 2023. This action extends the public comment period from April 29, 2024, to August 27, 2024, to give the public additional time to prepare and submit comments.

DATES: The comment period of the interim final rule published December 29, 2023, at 88 FR 90230, is extended through August 27, 2024. To be assured of consideration, written comments on this interim final rule must be received on or before August 27, 2024.

ADDRESSES: The Food and Nutrition Service invites interested persons to submit comments on this interim final rule. Comments may be submitted by any of the following methods:

• Federal eRulemaking Portal: Go to https://www.regulations.gov. Follow the online instructions for submitting comments.

• Mail: Send comments to Community Meals Policy Division, Food and Nutrition Service, 1320 Braddock Place, Alexandria, VA 22314.

• All written comments submitted in response to this interim final rule will be included in the record and will be made available to the public. Please be advised that the substance of the comments and the identity of the individuals or entities submitting the comments will be subject to public disclosure. USDA will make the written comments publicly available on the internet via https://www.regulations.gov.

FOR FURTHER INFORMATION CONTACT: J. Kevin Maskornick, Division Director, Community Meals Policy Division, USDA Food and Nutrition Service, 1320 Braddock Place, Alexandria, VA 22314; telephone: 703-305-2537.

SUPPLEMENTARY INFORMATION: The Food and Nutrition Service is extending the public comment period on the interim final rule “Establishing the Summer EBT Program and Rural Non-Congregate Option in the Summer Meal Programs”, which published on December 29, 2023, at 88 FR 90230. The Consolidated Appropriations Act, 2023 required the Secretary of Agriculture to make available an option to States to provide summer meals for non-congregate meal service in rural areas with no congregate meal service and to establish a permanent Summer Electronic Benefits Transfer for Children Program (Summer EBT) for the purpose of ensuring continued access to food when school is not in session for the summer. This interim final rule amends the Summer Food Service Program (SFSP) and the National School Lunch Program's Seamless Summer Option (SSO) regulations to codify the flexibility for rural program operators to provide non-congregate meal service in the SFSP and SSO, collectively referred to as the summer meal programs. This rule also establishes regulations and codifies the Summer EBT Program in the Code of Federal Regulations.

This action extends the public comment period to August 27, 2024, to provide additional time for the public, including State administering agencies, Territories, and Indian Tribal Organizations, as well as program participants and beneficiaries, and other stakeholders, to prepare and submit comments. Because the interim final rule became effective immediately upon publication, stakeholders are already taking active steps to implement its provisions. Extending the comment period ensures that these stakeholders are able to provide robust feedback on the entirety of the interim final rule's provisions, and that this feedback is reflective of their implementation experiences in advance of and during Summer 2024. Receipt of informed public input accounting for the first year of operations under the new Program rules will be vital when the Food and Nutrition Service considers future rulemaking to finalize the provisions of the interim final rule.

Cynthia Long,
Administrator, Food and Nutrition Service.

[FR Doc. 2024-08369 Filed 4-18-24; 8:45 am]

BILLING CODE 3410-30-P